DEPARTMENT OF THE INTERIOR

U.S. Geological Survey

[GX17RB00CMFCA00]

Agency Information Collection Activities: OMB Control Number 1028-NEW; Current and Future Landsat User Requirements

AGENCY: U.S. Geological Survey (USGS), Interior.

ACTION: Notice of a new information collection; request for comments.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before August 18, 2017.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, Current and Future Landsat User Requirements' in all correspondence.

FOR FURTHER INFORMATION CONTACT: Rudy Schuster, Supervisory Social Scientist, at (970) 226-9165 or schusterr@usgs.gov.

SUPPLEMENTARY INFORMATION:

I. Abstract

The USGS Land Remote Sensing (LRS) Program is currently planning for the next generation of Landsat satellites. These satellites will continue the multi-decadal continuous collection of moderate-resolution, multispectral, remotely-sensed imagery through the Landsat program. Landsat satellite imagery has been available at no cost to the public since 2008, which has resulted in the distribution of millions of scenes each subsequent year, as well as tens of thousands of Landsat users registering with USGS to access the data. In order to continue to provide high quality imagery that meets the needs of users, LRS is collecting current and future user requirements for sensor and satellite attributes. These attributes include spatial resolution, spectral bands, frequency of acquisition, and many others. LRS will use the information from this collection to understand if they are currently meeting the needs of their user community and to help determine the features of future Landsat satellites. Questions will be asked to determine user characteristics, current uses of imagery, preferred attributes of Landsat imagery, and benefits of Landsat imagery. All current Landsat imagery users who are registered with USGS will be invited to take part in the survey.

To protect the confidentiality and privacy of survey respondents, the data from the survey will not be associated with any respondent's email address at any time and will only be analyzed and reported in aggregate. All files containing PII will be password-protected, housed on secure USGS servers, and only accessible to the research team. The data from the survey will be aggregated and statistically analyzed and the results will be published in publically available USGS reports.

II. Data

OMB Control Number: 1028-NEW.

Title: Current and Future Landsat User Requirements.

Type of Request: New information collection.

Affected Public: General public.

Respondent's Obligation: None. Participation is voluntary.

Frequency of Collection: One time only.

Estimated Annual Number of Respondents: 11,000.

Estimated Total Number of Annual Responses: 11,000.

Estimated Time per Response: 20 minutes.

Estimated Annual Burden Hours: 3,667.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Dated: April 12, 2017.
Sharon Taylor,
Fort Collins Science Center Director.

[FR Doc. 2017-12726 Filed 6-16-17; 8:45 am]

BILLING CODE 4338-11-P